DEPARTMENT OF LABOR

Employment and Training Administration

[TA-W-65,639]

Business Confidential; Tyco Safety Products, Westminster, MA; Notice of Termination of Investigation

Pursuant to Section 221 of the Trade Act of 1974, as amended, an investigation was initiated on March 20, 2009 in response to a petition filed by a company official on behalf of the workers of Tyco Safety Products, Westminster, Massachusetts.

The petitioners requested that the petition be withdrawn. Consequently, the investigation has been terminated.

Signed at Washington, DC, this 20th day of April 2009.
Richard Church,
Certifying Officer, Division of Trade Adjustment Assistance.

[FR Doc. E9-10917 Filed 5-8-09; 8:45 am]

BILLING CODE 4510-FN-P